DEPARTMENT OF COMMERCE

Patent and Trademark Office

Submission for OMB Review; Comment Request; Invention Promoters/Promotion Firms Complaints

The United States Patent and Trademark Office (USPTO) will submit to the Office of Management and Budget (OMB) for clearance the following proposal for collection of information under the provisions of the Paperwork Reduction Act (44 U.S.C. Chapter 35).

Agency: United States Patent and Trademark Office, Commerce.

Title: Invention Promoters/Promotion Firms Complaints.

OMB Control Number: 0651-0044.

Form Number(s):

• PTO/SB/2048

Type of Request: Regular.

Number of Respondents: 50.

Average Hours per Response: The USPTO estimates that it will take the public 15 minutes (0.25 hours) to gather the necessary information, prepare the form, and submit a complaint to the USPTO and 30 minutes (0.5 hours) for an invention promoter or promotion firm to prepare and submit a response to a complaint.

Burden Hours: 17.5 burden hours annually.

Cost Burden: $493.70.

Needs and Uses: The Inventors' Rights Act of 1999 requires the USPTO to provide a forum for the publication of complaints concerning invention promoters and responses from invention promoters to those complaints. An individual may submit a complaint to the USPTO, which will then forward the complaint to the identified invention promoter for response. The complaints and responses are published on the USPTO Web site. The USPTO uses the information collected to comply with its statutory duty to publish the complaint along with any response from the invention promoter. The USPTO does not investigate these complaints or participate in any legal proceedings against invention promoters or promotion firms.

Affected Public: Individuals or households; businesses or other for-profits; and not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0044 copy request” in the subject line of the message.

• Mail: Marcie Lovett, Records Management Division Director, Office of the Chief Information Officer, United States Patent and Trademark Office, P.O. Box 1450, Alexandria, VA 22313-1450.

Written comments and recommendations for the proposed information collection should be sent on or before February 8, 2016 to Nicholas A. Fraser, OMB Desk Officer, via email to Nicholas_A._Fraser@omb.eop.gov, or by fax to (202) 395-5167, marked to the attention of Nicholas A. Fraser.

Dated: December 29, 2015.
Randy Hill,
Director, Collaborative Services Division, Office of the Chief Information Officer.

[FR Doc. 2016-00020 Filed 1-6-16; 8:45 am]

BILLING CODE 3510-16-P